DEPARTMENT OF HOMELAND SECURITY

Coast Guard

[Docket No. USCG-2014-0801]

Commercial Fishing Safety Advisory Committee

AGENCY: Coast Guard, Department of Homeland Security.

ACTION: Notice of Federal Advisory Committee Meeting.

SUMMARY: The Commercial Fishing Safety Advisory Committee will meet in Providence, Rhode Island to discuss various issues relating to safety in the commercial fishing industry. This meeting will be open to the public.

DATES: The Committee will meet on Tuesday, September 23 and Wednesday, September 24, 2014, from 8 a.m. to 5:30 p.m. The meeting may close early if all business is finished. All submitted written materials, comments, and requests to make an oral presentation at the meeting should reach Jack Kemerer, Alternate Designated Federal Officer for the Commercial Fishing Safety Advisory Committee, no later than September 16, 2014. For contact information, please see the FOR FURTHER INFORMATION CONTACT section below. Any written material submitted by the public both before and after the meeting will be distributed to the Commercial Fishing Safety Advisory Committee and become part of the public record.

ADDRESSES: The Committee will meet at Rhode Island Department of Environmental Management Headquarters located at 235 Promenade Street, Providence, Rhode Island, Room 300.

For information on facilities or services for individuals with disabilities or to request special assistance at the meeting, contact the person listed in the FOR FURTHER INFORMATION CONTACT section, as soon as possible.

To facilitate public participation, we are inviting public comment on the issues to be considered by the Committee as listed in the “Agenda” section below. Written comments must be submitted no later than September 16, 2014 if you want Committee members to be able to review it before the meeting, and must be identified by docket number USCG-2014-0801, and submitted by one of the following methods:

• Federal Electronic Rulemaking Portal: http://www.regulations.gov (preferred method to avoid delays in processing).

• Mail: Docket Management Facility (M-30), United States Department of Transportation, West Building Ground Floor, Room W12-140, 1200 New Jersey Avenue SE., Washington, DC 20590-0001.

• Facsimile: (202) 493-2251.

• Hand Delivery: Same as mail address above, between 9 a.m. and 5 p.m., Monday through Friday, except Federal Holidays. The telephone number is 202-366-9329. Instructions: All submissions received must include the words “Department of Homeland Security” and docket number for this action. Comments received will be posted without alteration at www.regulations.gov, including any personal information provided. You may review a Privacy Act notice regarding our public dockets in the January 17, 2008 issue of the Federal Register (73 FR 3316). Docket: For access to the docket to read documents or comments related to this notice, go to http://www.regulations.gov, enter the docket number in the “SEARCH” box, press Enter and then click on the item you wish to view.

Public oral comment periods will be held during the meeting after each presentation and at the end of each day. Speakers are requested to limit their comments to 3 minutes. Please note that the public oral comment periods may end before the prescribed ending time following the last call for comments. Contact Jack Kemerer as indicated below to register as a speaker.

FOR FURTHER INFORMATION CONTACT: Jack Kemerer, Alternate Designated Federal Officer of Commercial Fishing Safety Advisory Committee, Commandant (CG-CVC-3), United States Coast Guard Headquarters, 2703 Martin Luther King Junior Avenue SE., Mail Stop 7501, Washington, DC 20593-7501; telephone 202-372-1249, facsimile 202-372-8376, electronic mail: jack.a.kemerer@uscg.mil. If you have any questions on viewing or submitting material to the docket, call Cheryl Collins, Program Manager, Docket Operations, telephone 202-493-0402 or 1-800-647-5527.

SUPPLEMENTARY INFORMATION: Notice of this meeting is given under the Federal Advisory Committee Act, Title 5 United States Code Appendix.

The Commercial Fishing Safety Advisory Committee is authorized by Title 46 United States Code Section 4508 and the Committee's purpose is to provide advice and recommendations to the United States Coast Guard and the Department of Homeland Security on matters relating to the safety of commercial fishing industry vessels.

A copy of all meeting documentation is available at http://fishsafe.info/ Alternatively, you may contact Jack Kemerer as noted in the FOR FURTHER INFORMATION CONTACT section above.

Agenda

The Commercial Fishing Safety Advisory Committee will meet to review, discuss and formulate recommendations on topics contained in the agenda:

Day 1

The meeting will include administrative matters, reports, presentations, discussions, and Subcommittee sessions as follows:

(1) Swearing-in of new members, election of Chair and Vice-Chair, and completion of Department of Homeland Security Form 420 by Special Government Employee members.

(2) Status of Commercial Fishing Vessel Safety Rulemaking projects resulting from requirements set forth in the Coast Guard Authorization Act of 2010 and the Coast Guard and Maritime Transportation Act of 2012.

(3) Commercial Fishing Vessel Safety District Coordinators' reports on activities and initiatives.

(4) Industry Representatives' updates on safety and survival equipment, and classification of new fishing vessels.

(5) Presentation and discussion on fatality rates by regions and fisheries and update on safety and risk reduction related projects by the National Institute for Occupational Safety and Health.

(6) Presentation and discussion on safety standards by the National Oceanic and Atmospheric Administration, National Marine Fisheries Service.

(7) Subcommittee/working group sessions on (a) standards for alternative safety compliance program(s) development, and (b) training program requirements for individuals in charge of a vessel and engineer officer qualifications.

(8) Public comment period.

(9) Adjournment of meeting.

There will be a comment period for Commercial Fishing Safety Advisory Committee members and a comment period for the public after each presentation and discussion. The Committee will review the information presented on any issues, deliberate on any recommendations presented in Subcommittee reports, and formulate recommendations for the Department's consideration.

Day 2

The meeting will primarily be dedicated to continuing Subcommittee/working group sessions on training requirements and alternative safety compliance programs, but will also include:

(1) Reports and recommendations from the Subcommittees to the full committee for consideration.

(2) Other safety recommendations and safety program strategies from the Committee.

(3) Public comment period

(4) Future plans and goals for the Committee.

(5) Adjournment of meeting.

Dated: August 28, 2014.
Jonathan C. Burton,
Captain, United States Coast Guard, Director of Inspections and Compliance.

[FR Doc. 2014-20883 Filed 9-2-14; 8:45 am]

BILLING CODE 9110-04-P